NUCLEAR REGULATORY COMMISSION

[Docket No. 50-018; NRC-2024-0175]

General Electric Hitachi; Vallecitos Boiling Water Reactor Developmental Power Reactor; Environmental Assessment and Finding of No Significant Impact

AGENCY: Nuclear Regulatory Commission.

ACTION: Notice; issuance.

SUMMARY: The U.S. Nuclear Regulatory Commission (NRC) is issuing a finding of no significant impact (FONSI) and accompanying environmental assessment (EA) regarding the NRC's consideration of a license amendment request from General Electric Hitachi (GEH or the licensee) seeking approval of a license termination plan (LTP) for the Vallecitos Boiling Water Reactor (VBWR) Developmental Power Reactor (DPR)-1. If approved, the amendment would add a license condition to the license reflecting the NRC's approval of its LTP. Based on the EA, the NRC staff has concluded that there will be no significant impacts to environmental resources from the requested license amendment, and therefore, a FONSI is appropriate.

DATES: The EA and FONSI referenced in this document are available September 30, 2024.

ADDRESSES: Please refer to Docket ID NRC-2024-0175 when contacting the NRC about the availability of information regarding this document. You may obtain publicly available information related to this document using any of the following methods:

• Federal Rulemaking Website: Go to https://www.regulations.gov and search for Docket ID NRC-2024-0175. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jill Caverly, Office of Nuclear Material Safety and Safeguards, U.S. Nuclear Regulatory Commission, Washington, DC 20555-0001, telephone: 301-415-76744; email: Jill.Caverly@nrc.gov.

SUPPLEMENTARY INFORMATION:

I. Introduction

The NRC is considering issuance of a license amendment for approval of an LTP for the VBWR DPR-1 located in Alameda County, California, as part of a part 50 of title 10 of the Code of Federal Regulations (10 CFR), “Domestic Licensing of Production and Utilization Facilities,” Facility Operating License No. DPR-1. If granted, the license amendment would add a condition reflecting the NRC's approval of the LTP and establishing criteria for determining when changes to the LTP require prior NRC approval. As required by 10 CFR part 51, “Environmental Protection Regulations for Domestic Licensing and Related Regulatory Functions,” the NRC prepared an EA. Based on the results of the EA, the NRC has determined not to prepare an environmental impact statement for the license amendment request and is issuing a FONSI.

General Electric (GE) was issued a license for Construction Permit Power Reactor-3 to construct and operate the VBWR on May 14, 1956, as DPR. License CX-2 to operate DPR was issued on July 29, 1957, and initial criticality was achieved on August 3, 1957. License DPR-1 was issued to GE on August 31, 1957, and full power was attained on October 19, 1957. The VBWR ceased operations on December 9, 1963, was defueled on December 24, 1963, and GE was issued a license to possess but not operate the VBWR by the U.S. Atomic Energy Commission, the predecessor of the NRC, on September 9, 1965. The license was renewed in 1973 and has remained effective under the provisions of 10 CFR 50.51(b). On October 22, 2007, license DPR-1 amendment 21 was issued, transitioning ownership of the VBWR from GE to GEH.

The facility has been maintained in SAFSTOR (i.e., the facility is placed in a safe, stable condition and maintained in that state (safe storage) until it is subsequently decontaminated and dismantled to levels that permit license termination) condition and the VBWR has been monitored. The licensee submitted the Limited Post-Shutdown Decommissioning Activities Report in 2022 that describes a change in the VBWR status from SAFSTOR to DECON (i.e., where radioactive contaminants are promptly removed or decontaminated). Currently, all VBWR spent fuel has been removed from both the reactor and the site.

The licensee submitted the LTP on September 15, 2023, in accordance with 10 CFR 50.82(a)(9). The NRC held a public meeting related to the LTP request in Pleasanton, California, on May 21, 2024. The meeting covered the NRC's decommissioning process, the process for approving the LTP, and addressed public questions and comments on the LTP.

II. Environmental Assessment

Description of the Proposed Action

The proposed action is the review and subsequent approval, if appropriate, of a license amendment to approve the LTP for the VBWR. If approved, the amendment would add a license condition reflecting the NRC's approval of the LTP and establishing criteria for determining when changes to the LTP require prior NRC approval. The proposed action is described in the LTP application dated September 15, 2023, an application supplement dated October 31, 2023, and responses to requests for additional information.

Purpose and Need for the Proposed Action

The purpose of and need for the proposed action is to allow completion of decommissioning of the VBWR site, termination of the VBWR operating license by the NRC, and subsequent release of the site for unrestricted use. The NRC regulation at 10 CFR 50.82 sets forth the process for the licensee to decommission its nuclear power plant, including submission of the LTP. The NRC will approve the LTP, provided that the LTP meets the criteria in 10 CFR 50.82(a)(10).

Environmental Impacts of the Proposed Action

The NRC staff considered the potential impacts of the proposed action on land use; visual and scenic resources/aesthetics; climatology, meteorology, and air quality; noise; geology and soils; water resources; historic and cultural resources; ecological resources; socioeconomics; public and occupational health; transportation and traffic; environmental justice; and waste management. The final Generic Environmental Impact Statement on Decommissioning of Nuclear Facilities (NUREG-0586 or Decommissioning GEIS) generically addressed many of the potential environmental impacts of decommissioning at the VBWR. During its review of the LTP, the NRC concluded that the impacts for most resource areas—onsite land use; water resources; air quality; ecology within the operational area; socioeconomics; historic and cultural resources within the operational area; aesthetics; noise; and transportation—were still bounded by the generic environmental impacts statement in the Decommissioning GEIS. Therefore, the NRC does not expect impacts associated with these issues beyond those discussed in the NUREG-0586, which concluded that the impact level for these issues was SMALL.

In the EA, the NRC staff evaluated the potential environmental impacts on the six site-specific environmental resource areas as well as the five resource areas not evaluated in the Decommissioning GEIS and did not identify any significant impacts. There are no planned activities outside of the operational area, and the licensee plans to use best management practices and approved decommissioning practices for any decommissioning activities. Therefore, the proposed action would result in no significant impacts and there would be no significant cumulative effects when added to the past, present, or reasonably foreseeable future actions at the VBWR site.

Environmental Impacts of the Alternatives to the Proposed Action

As an alternative to the proposed action, the staff considered the “no-action” alternative. Under the no-action alternative, the NRC would not approve the LTP or the license amendment request because regulatory requirements have not been met.

If the NRC was unable to approve the LTP because the regulatory requirements were not met, GEH would need to take additional actions to prepare an LTP that meets the requirements in 10 CFR 50.82(a)(10). Under that scenario, GEH would resubmit the LTP, activities at the VBWR would likely continue, and the environmental impacts would not change as a result of the additional time required for the LTP resubmission.

Agencies and Persons Consulted

On August 13, 2024, the NRC staff provided a copy of the draft EA to the State of California Department of Public Health for its review and comment. The State responded in a letter dated September 12, 2024. The NRC staff updated the EA to incorporate the State's comments where appropriate.

III. Finding of No Significant Impact

Based on its review of the proposed license amendment request, in accordance with the requirements of 10 CFR part 51, the NRC staff has determined that issuing the requested amendment, if appropriate, amending GEH's DPR-1 license would not significantly affect the quality of human environment. No significant radiological or non-radiological impacts are expected from the proposed action. Therefore, the NRC staff has determined that pursuant to 10 CFR 51.31, “Determinations based on environmental assessment,” preparation of an EIS is not required for the proposed action, and pursuant to 10 CFR 51.32, “Finding of no significant impact,” a FONSI is appropriate. In accordance with 10 CFR 51.32(a)(4), this FONSI incorporates the EA set forth in this notice by reference.

IV. Availability of Documents

The documents identified in the following table are available to interested persons through ADAMS.

Document description | ADAMS accession No.
General Electric Hitachi. License Termination Plan for the Vallecitos Boiling Water Reactor License DPR-1, dated September 15, 2023 | ML23261A591 (Package)
General Electric Hitachi. GE-Hitachi Nuclear Energy Americas, LLC, Vallecitos Boiling Water Reactor Environmental Report, dated August 18, 2023 | ML23261A593
General Electric Hitachi. GEH Vallecitos Nuclear Center, Email: Response to Acceptance Review of the VBWR License Termination Plan, dated October 31, 2023 | ML23304A300
General Electric Hitachi. GE-Hitachi Nuclear Energy Americas, LLC, Vallecitos Boiling Water Reactor (VBWR) License Termination Plan, dated August 18, 2023 | ML23261A594
General Electric Hitachi. Response to Request for Additional Information, dated March 25, 2024 | ML24085A792
NorthStar Vallecitos, LLC. Update to License Termination Plan for the Vallecitos Boiling Water Reactor—Environmental Report, Vallecitos Nuclear Center, dated August 7, 2024 | ML24220A200
U.S. Nuclear Regulatory Commission, Email: Request for State review of an environmental assessment for the GEH Vallecitos Boiling Water Reactor, dated August 13, 2024 | ML24283A171
California Department of Health response to a request for review of the GEH Vallecitos VBWR LTP draft environmental assessment, dated September 12, 2024 | ML24260A220
US Nuclear Regulatory Commission. Environmental Assessment for the License Termination Plan for the Vallecitos Boiling Water Reactor at the General Electric Vallecitos Nuclear Center, Sunol, California, dated September 30, 2024 | ML24274A192

Dated: October 10, 2024.
For the Nuclear Regulatory Commission.
Robert Sun,
Chief, Environmental Project Management Branch 2, Division of Rulemaking, Environmental, and Financial Support, Office of Nuclear Material Safety and Safeguards.

[FR Doc. 2024-23863 Filed 10-15-24; 8:45 am]

BILLING CODE 7590-01-P